DEPARTMENT OF TRANSPORTATION

Federal Transit Administration

[Docket No. FTA-2014-0016]

Notice of Proposed Buy America Waiver for Waterjets

AGENCY: Federal Transit Administration, DOT.

ACTION: Notice of proposed Buy America waiver and request for comment.

SUMMARY: The Federal Transit Administration (FTA) received a request for a waiver to permit the purchase of new waterjets that are non-compliant with Buy America requirements using FTA funding. The request is from the Golden Gate Bridge Highway & Transportation District (Golden Gate Bridge) for its M.V. Mendocini ferry vessel. In accordance with 49 U.S.C. 5323(j)(3)(A), FTA is providing notice of the waiver request and seeks public comment before deciding whether to grant the request. If granted, the waiver only would apply to a one-time FTA-funded procurement by Golden Gate Bridge.

DATES: Comments must be received by July 15, 2014. Late-filed comments will be considered to the extent practicable.

ADDRESSES: Please submit your comments by one of the following means, identifying your submissions by docket number FTA-2014-0016:

1. Web site: http://www.regulations.gov. Follow the instructions for submitting comments on the U.S. Government electronic docket site.

2. Fax: (202) 493-2251.

3. Mail: U.S. Department of Transportation, 1200 New Jersey Avenue SE., Docket Operations, M-30, West Building, Ground Floor, Room W12-140, Washington, DC 20590-0001.

4. Hand Delivery: U.S. Department of Transportation, 1200 New Jersey Avenue SE., Docket Operations, M-30, West Building, Ground Floor, Room W12-140, Washington, DC 20590-0001 between 9 a.m. and 5 p.m., Monday through Friday, except Federal holidays.

Instructions: All submissions must make reference to the “Federal Transit Administration” and include docket number FTA-2014-0016. Due to the security procedures in effect since October 2011, mail received through the U.S. Postal Service may be subject to delays. Parties making submissions responsive to this notice should consider using an express mail firm to ensure the prompt filing of any submissions not filed electronically or by hand. Note that all submissions received, including any personal information therein, will be posted without change or alteration to http://www.regulations.gov. For more information, you may review DOT's complete Privacy Act Statement in the Federal Register published April 11, 2000 (65 FR 19477), or you may visit http://www.regulations.gov.

FOR FURTHER INFORMATION CONTACT: Mary J. Lee, FTA Attorney-Advisor, at (202) 366-0985 or mary.j.lee@dot.gov.

SUPPLEMENTARY INFORMATION: The purpose of this notice is to provide notice and seek comment on whether the FTA should a grant non-availability waiver for Golden Gate Bridge's procurement of replacement waterjets for its M.V. Mendocini ferry vessel.

With certain exceptions, FTA's Buy America requirements prevent FTA from obligating an amount that may be appropriated to carry out its program for a project unless “the steel, iron, and manufactured goods used in the project are produced in the United States.” 49 U.S.C. 5323(j)(1). A manufactured product is considered produced in the United States if: (1) all of the manufacturing processes for the product take place in the United States; and (2) all of the components of the product are of U.S. origin. A component is considered of U.S. origin if it is manufactured in the United States, regardless of the origin of its subcomponents. 49 CFR 661.5(d). If, however, FTA determines that “the steel, iron, and goods produced in the United States are not produced in a sufficient and reasonably available amount or are not of a satisfactory quality,” then FTA may issue a waiver (non-availability waiver). 49 U.S.C. 5323(j)(2)(B); 49 CFR 661.7(c).

Golden Gate Bridge provides ferry service to an average of 7,000 passengers per day. According to Golden Gate Bridge, ridership continues to increase and continued maintenance of its fleet of ferry vessels, such as the M.V. Mendocini, is necessary to provide reliable service. At this time, Golden Gate Bridge needs to replace the waterjets in the M.V. Mendocini. Golden Gate Bridge asserts that there is only one manufacturer of commercial waterjets in the United States, NAMjet of Arkansas, but this manufacturer only provides waterjets for smaller ferry vessels that have no more than 800 brake horsepower (bhp), which is less than half the amount of bhp needed for Golden Gate Bridge's M.V. Mendocini ferry vessel. In addition, the M.V. Mendocini ferry vessel's design and control system configuration only permits a waterjet such as the one HamiltonJet of New Zealand manufactures, which is not Buy America compliant.

The purpose of this notice is to publish Golden Gate Bridge's request and seek public comment from all interested parties in accordance with 49 U.S.C. 5323(j)(3)(A). Comments will help FTA understand completely the facts surrounding the request, including the effects of a potential waiver and the merits of the request. A full copy of the request has been placed in docket number FTA-2014-0016.

Dana C. Nifosi,
Deputy Chief Counsel.

[FR Doc. 2014-15903 Filed 7-7-14; 8:45 am]

BILLING CODE 4910-57-P